DEPARTMENT OF COMMERCE

National Oceanic and Atmospheric Administration

[I.D. 041703A]

Notice of Regional Fisheries Management Meetings

AGENCY: National Marine Fisheries Service (NMFS), National Oceanic and Atmospheric Administration (NOAA), Commerce.

ACTION: Notice of public meetings

SUMMARY: NMFS is scheduling a series of eight regional constituent meetings beginning in June and running through September to gather public input on ways to improve the effectiveness of NMFS and its management of living marine resources. The regional meetings will be a collaborative effort involving all major marine fisheries interests. The primary objective is to assemble and provide a comprehensive analysis of the diverse opinions, attitudes, and perspectives of marine resource stakeholders as they relate to broad themes in fisheries management. The secondary objective is to identify performance measures.

DATES: The meetings will be held in eight regional locations. See Meeting Times, Dates, and Agenda for specific dates and times. To submit comments, see FOR FURTHER INFORMATION CONTACT.

ADDRESSES: For locations of the meetings see SUPPLEMENTARY INFORMATION. Information on the meetings will be updated periodically on NMFS' web page: http://www.nmfs.noaa.gov/constit_sessions_2003.html.

FOR FURTHER INFORMATION CONTACT: Patricia Lawson, NMFS, telephone: 301-713-2239; fax: 301-713-1940; email: patricia.lawson@noaa.gov. To submit e-Comments (see E-Comments Pilot Program).

SUPPLEMENTARY INFORMATION:

Meeting Times, Dates, and Agenda

1. Western Pacific Meeting: June 10, 2003, 6 p.m. - 8 p.m. and June 11, 2003, 10 a.m. - 1 p.m. The meeting location is the Ala Moana Hotel, 410 Atkinson Drive Honolulu, HI 96814, telephone: 808-955-4911.

2. North Pacific Meeting: June 13, 2003, 2 p.m. - 5 p.m. and 6 p.m. - 8 p.m. The meeting location is the Kodiak Inn-Best Western, 236 Rezanof Drive West, Kodiak, AK 99615, telephone: 907-486-5712.

3. Caribbean Meeting: June 20, 2003, 9 a.m. - 12 p.m. and 6 p.m. - 8 p.m. The meeting location is the Wyndham Sugar Bay Resort and Spa, 6500 Estate Smith Bay, St. Thomas, USVI, telephone: 340-777-7100.

4. Gulf of Mexico Meeting: July 15, 2003, 2 p.m. - 5 p.m. and 6 p.m. - 8 p.m. The meeting location is The Naples Beach Hotel & Golf Club, 851 Gulf Shore Blvd. North, Naples, FL 34102, telephone: 800-237-7600.

5. Mid-Atlantic Meeting: August 5, 2003, 1 p.m.- 4 p.m. and 6 p.m. -8 p.m. The meeting location is the Wyndham Baltimore - Inner Harbor, 101 West Fayette Street, Baltimore, MD 21201, telephone: 410-752-1100.

6. Pacific Meeting: September 8, 2003, 6 p.m. - 8 p.m. and September 9, 2003, 8 a.m. - 11 p.m. The meeting location is the Double Tree Guest Suites Seattle Southcenter, 16500 Southcenter Parkway, Seattle, WA 98188, telephone: 206-575-8220.

7. New England Meeting: September 16, 2003, 2 p.m. - 5 p.m. and 6 p.m. - 8 p.m. The meeting location is the Holiday Inn Express, 110 Middle Street, Fairhaven, MA 02719, telephone: 508-997-1281.

8. South Atlantic Meeting: September 18, 2003, 1:30 p.m. - 4:30 p.m. and 6 p.m. - 8 p.m. The meeting location is the Pawley's Plantation, 70 Tanglewood Drive, Pawley's Island, SC 29585, telephone: 800-367-9959.

E-Comments Pilot Program

NMFS encourages the public to participate in submitting comments by the e-comment program. To this end, NMFS is accepting comments by submitted mail, fax, and the Internet as part of its e-Comments pilot project. The e-Comments pilot project is designed to introduce electronic commenting to its constituents. You can respond to the questions on the e-comment page through NMFS' web page http://www.nmfs.noaa.gov/constit_sessions_2003.html. The public is encouraged to use the new web site to compose and submit comments on the regional constituent meetings. In submitting comments, please include your name, address and reason for each comment. NMFS also invites public comments on the e-Comments program that allows you to submit your comments on line. Please submit your comments by only one means. Comments received from the public will become part of the public record and will be posted on the e-Comments web site http://www.nmfs.noaa.gov/emeetings.

Areas NMFS is soliciting public comments on:

(1) Issue(s) - What are the key issue(s) facing fisheries management, nationally or regionally?

(2) Responsibility - Who should have management or conservation responsibility? (If commenting, indicate issue comment relates to.)

(3) Process - How could the Federal process of managing fisheries be improved?

(4) Performance Measure - How could one measure whether the solution is being properly implemented and working? (If commenting,indicate issue performance measure relates to.)

(5) Contact - Briefly describe the best way for NMFS to keep the public informed about changes within the agency and fisheries management.

Special Accommodations

These meetings are physically accessible to people with disabilities. Requests for sign language interpretation or other auxiliary aids should be directed to Patricia Lawson (see FOR FURTHER INFORMATION CONTACT) 2 weeks before each meeting.

Dated: May 12, 2003.
William T. Hogarth,
Assistant Administrator, National Marine Fisheries Service.

[FR Doc. 03-12159 Filed 5-14-03; 8:45 am]

BILLING CODE 3510-22-S